DEPARTMENT OF LABOR

Employment and Training Administration

[TA-W-50,264]

Atlantic Metal Products Springfield, NJ; Notice of Termination of Investigation

Pursuant to section 221 of the Trade Act of 1974, as amended, an investigation was initiated on December 6, 2002, in response to a worker petition filed at a company official's request by the New Jersey State Trade Coordinator on behalf of workers at Atlantic Metal Products, Springfield, New Jersey.

The Department of Labor has been unable to obtain the information necessary to reach a determination on worker group eligibility. Consequently, further investigation in this case would serve no purpose, and the investigation has been terminated.

Signed at Washington, DC, this 25th day of April, 2003.
Richard Church,
Certifying Officer, Division of Trade Adjustment Assistance.

[FR Doc. 03-11544 Filed 5-8-03; 8:45 am]

BILLING CODE 4510-30-P